NUCLEAR REGULATORY COMMISSION

[Docket No. 040-08794]

Notice of Consideration of Amendment Request for Molycorp, York, PA, Site and Opportunity for a Hearing

The U.S. Nuclear Regulatory Commission (NRC) is considering issuance of a license amendment to Source Materials License SMB-1408 issued to Molycorp, Inc., (Molycorp), to plug and abandon ground water monitoring wells at the Molycorp, York, PA, site. Several of these wells are designated in the license and samples are required to be drawn from these designated wells biannually. Molycorp has asserted that this action is needed to begin cleanup activities in the areas surrounding the wells. Molycorp has committed to install new wells in the same locations and screened at the same intervals as the existing wells designated in the license. Prior to installing the new wells, Molycorp has committed to confer with both NRC and the Pennsylvania Department of Environmental Protection to ensure that the new well locations are satisfactory. Molycorp expects to install the new wells in August 2001 and to complete biannual sampling for the year 2001 by sampling the new wells twice before year end. Molycorp's request is contained in a letter to NRC dated January 29, 2001.

If the NRC approves this request, the approval will be documented in a license amendment to NRC License SMB-1408. However, before approving the proposed amendment, the NRC will need to make the findings required by the Atomic Energy Act of 1954, as amended, and NRC's regulations. These findings will be documented in a safety evaluation report and either an environmental assessment or a determination of a categorical exclusion.

NRC hereby provides notice that this is a proceeding on an application for an amendment of a license falling within the scope of Subpart L, “Informal Hearing Procedures for Adjudication in Materials Licensing Proceedings,” of NRC's rules of practice for domestic licensing proceedings in 10 CFR Part 2. Pursuant to § 2.1205(a), any person whose interest may be affected by this proceeding may file a request for a hearing in accordance with § 2.1205(d). A request for a hearing must be filed within thirty (30) days of the date of publication of this Federal Register notice.

The request for a hearing must be filed with the Office of the Secretary either:

1. By delivery to: Secretary, U.S. Nuclear Regulatory Commission, One White Flint North, 11555 Rockville Pike, Rockville, MD 20852-2738, between 7:45 am and 4:15 pm, Federal workdays; or

2. By mail or facsimile addressed to: Secretary, U.S. Nuclear Regulatory Commission, Washington, DC 20555-0001. Attention: Rulemakings and Adjudications Staff.

In accordance with 10 CFR 2.1205(f), each request for a hearing must also be served, by delivering it personally, or by mail, to:

1. The applicant, Molycorp, Inc., 300 Caldwell Avenue, Washington, PA 15301, Attention: George Dawes, and,

2. The NRC staff, by delivery to the General Counsel, U.S. Nuclear Regulatory Commission, One White Flint North, 11555 Rockville Pike, Room 0-15 D21, Rockville, MD 20852-2738, between 7:45 am and 4:15 pm, Federal workdays, or by mail, addressed to the General Counsel, U.S. Nuclear Regulatory Commission, Mailstop 0-15 D21, Washington, DC 20555-0001.

In addition to meeting other applicable requirements of 10 CFR Part 2 of NRC's regulations, a request for a hearing filed by a person other than an applicant must describe in detail:

1. The interest of the requester in the proceeding;

2. How that interest may be affected by the results of the proceeding, including the reasons why the requester should be permitted a hearing, with particular reference to the factors set out in § 2.1205(h);

3. The requester's areas of concern about the licensing activity that is the subject matter of the proceeding; and,

4. The circumstance establishing that the request for a hearing is timely in accordance with § 2.1205(d).

FOR FURTHER INFORMATION CONTACT: The application for the license amendment and supporting documentation are available for inspection at NRC's Public Document Room, 11545 Rockville Pike, Rockville MD, 20055, and at NRC's Public Electronic Reading Room on the NRC web site at http://www.nrc.gov/NRC/ADAMS/index.html. Any questions with respect to this action should be referred to Tom McLaughlin, Decommissioning Branch, Division of Waste Management, Office of Nuclear Material Safety and Safeguards, U.S. Nuclear Regulatory Commission, Washington, DC 20555-0001. Telephone: (301) 415-5869. Fax: (301) 415-5398.

Dated at Rockville, Maryland, this 16th day of February 2001.
For the Nuclear Regulatory Commission.
Tom McLaughlin,
Project Manager, Facilities Decommissioning Section, Division of Waste Management, Office of Nuclear Material Safety and Safeguards.

[FR Doc. 01-4626 Filed 2-23-01; 8:45 am]

BILLING CODE 7590-01-P